DEPARTMENT OF ENERGY

Federal Energy Regulatory Commission

Combined Notice of Filings #2

Take notice that the Commission received the following electric rate filings:

Docket Numbers: ER16-1967-001.

Applicants: PJM Interconnection, L.L.C.

Description: Compliance filing: Compliance filing per 4/21/2016 order-Docket No. EL13-88 re: Generator Deactivat to be effective 2/14/2017.

Filed Date: 12/15/16.

Accession Number: 20161215-5249.

Comments Due: 5 p.m. ET 1/5/17.

Docket Numbers: ER16-2656-001.

Applicants: Arizona Public Service Company.

Description: Tariff Amendment: APS Response to Request for Additional Information to be effective 11/23/2016.

Filed Date: 12/16/16.

Accession Number: 20161216-5125.

Comments Due: 5 p.m. ET 1/6/17.

Docket Numbers: ER17-468-001.

Applicants: Ohio Valley Electric Corporation.

Description: Compliance filing: Errata to Amendment J, K and P to be effective 10/14/2016.

Filed Date: 12/16/16.

Accession Number: 20161216-5182.

Comments Due: 5 p.m. ET 1/6/17.

Docket Numbers: ER17-563-000.

Applicants: Arizona Public Service Company.

Description: § 205(d) Rate Filing: Administrative Filing for Collation Correction to be effective 12/16/2016.

Filed Date: 12/16/16.

Accession Number: 20161216-5082.

Comments Due: 5 p.m. ET 1/6/17.

Docket Numbers: ER17-565-000.

Applicants: PJM Interconnection, L.L.C.

Description: § 205(d) Rate Filing: Revisions to OATT Definitions and Att Q RE: Refinements to PJM's Credit Policy to be effective 2/14/2017.

Filed Date: 12/16/16.

Accession Number: 20161216-5098.

Comments Due: 5 p.m. ET 1/6/17.

Docket Numbers: ER17-566-000.

Applicants: Niagara Mohawk Power Corporation, New York Independent System Operator, Inc.

Description: § 205(d) Rate Filing: Cost Reimbursement Agreement 2324-Niagara Mohawk and Erie Boulevard Hydropower to be effective 11/18/2016.

Filed Date: 12/16/16.

Accession Number: 20161216-5114.

Comments Due: 5 p.m. ET 1/6/17.

Docket Numbers: ER17-567-000.

Applicants: Duke Energy Progress, LLC.

Description: § 205(d) Rate Filing: Southampton Solar Affected System Operating Agreement to be effective 1/19/2017.

Filed Date: 12/16/16.

Accession Number: 20161216-5145.

Comments Due: 5 p.m. ET 1/6/17.

Docket Numbers: ER17-568-000.

Applicants: Midcontinent Independent System Operator, Inc.

Description: § 205(d) Rate Filing: 2016-12-16_Attachment X-Quarterly Operating Limits to be effective 2/15/2017.

Filed Date: 12/16/16.

Accession Number: 20161216-5155.

Comments Due: 5 p.m. ET 1/6/17.

Docket Numbers: ER17-569-000.

Applicants: National Choice Energy LLC.

Description: Baseline eTariff Filing: Baseline New to be effective 12/30/2016.

Filed Date: 12/16/16.

Accession Number: 20161216-5158.

Comments Due: 5 p.m. ET 1/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2016.
Nathaniel J. Davis, Sr.,
Deputy Secretary.

[FR Doc. 2016-30835 Filed 12-21-16; 8:45 am]

BILLING CODE 6717-01-P